DEPARTMENT OF HOMELAND SECURITY

Coast Guard

33 CFR Part 3

[Docket Number USCG-2023-0223]

Technical, Organizational, and Conforming Amendments; Sector Columbia River, WA and Sector North Bend, OR

AGENCY: Coast Guard, DHS.

ACTION: Final rule.

SUMMARY: This rule makes non-substantive changes to Coast Guard regulations in association with a change in the Coast Guard's internal organization. The purpose of this rule is to reflect the disestablishment of Sector North Bend and reorganization of Sector Columbia River. These changes will have no substantive effect on the regulated public.

DATES: This rule is effective May 15, 2023.

ADDRESSES: To view documents mentioned in this preamble as being available in the docket, go to https://www.regulations.gov, type USCG-2023-0223 in the search box and click “Search.” Next, in the Document Type column, select “Supporting & Related Material.”

FOR FURTHER INFORMATION CONTACT: If you have questions on this rule, call or email Lieutenant Katie Graichen, District 13 Legal Office, U.S. Coast Guard; telephone 206-220-7110, email katherine.e.graichen@uscg.mil.

SUPPLEMENTARY INFORMATION:

I. Table of Abbreviations

AOR Area of responsibility

CFR Code of Federal Regulations

COTP Captain of the Port

DHS Department of Homeland Security

FR Federal Register

NPRM Notice of proposed rulemaking

OCMI Officer in Charge of Marine Inspections

OFCO Operating Facility Change Order

SAR Search and rescue

§ Section

U.S.C. United States Code

II. Background Information and Regulatory History

The Coast Guard implemented the sector construct to consolidate earlier organizational structures. Within the Thirteenth Coast Guard District, Sector Columbia River and Sector North Bend have not fully conformed to the standard sector construct. In 2013, the Coast Guard amended 33 CFR part 3 to reflect changes in agency organization by creating and defining Coast Guard sectors that would “exercise specific Search and Rescue Mission Coordinator authority over a designated portion of an encompassing sector's area of responsibility.” See 78 FR 39163 (2013). Sector North Bend was one such sector, receiving Search and Rescue (SAR) Mission Coordinator authority over a designated portion of Sector Columbia River's encompassing area of responsibility. See 33 CFR 3.65-20.

To better align with the standard sector structure and to improve internal efficiencies, the Coast Guard is reorganizing Sector Columbia River and Sector North Bend. Specifically, Sector North Bend is being disestablished, so the regulation granting it special SAR Mission Coordinator authority is no longer applicable. The geographic boundaries of Sector Columbia River are not changing, but its office is moving from Astoria, OR, to Portland, OR.

We did not publish a notice of proposed rulemaking (NPRM) before this final rule. The Coast Guard finds that this rule is exempt from notice and comment rulemaking requirements under 5 U.S.C. 553(b)(A) because the changes it makes are conforming amendments involving agency organization. The Coast Guard also finds good cause exists under 5 U.S.C. 553(b)(B) for not publishing an NPRM because the changes will have no substantive effect on the public, and notice and comment are therefore unnecessary. For the same reasons, the Coast Guard finds good cause under 5 U.S.C. 553(d)(3) to make the rule effective fewer than 30 days after publication in the Federal Register.

III. Legal Authority and Need for Rule

The Coast Guard is issuing this rule under authority in 14 U.S.C. 504(a)(2), as delegated at 33 CFR 1.05-1(h), to issue regulations necessary to implement technical, organizational, and conforming amendments and corrections to rules, regulations, and notices.

Operating Facility Change Order (OFCO) No. 034-22 announced the reorganization of Sector Columbia River and disestablishment of Sector North Bend. These conforming amendments update the regulation that describes Sector Columbia River so that it contains current information and removes the regulation that describes Sector North Bend.

Under 14 U.S.C. 504(a)(2), the Commandant of the Coast Guard has the authority to establish and prescribe the purpose of Coast Guard Shore establishments. And under 33 CFR 1.05-1(h), the Chief of the Coast Guard's Office of Regulations and Administrative Law has been delegated authority to issue technical, organizational, and conforming amendments and corrections to regulations to reflect changes introduced by OFCO No. 034-22.

IV. Discussion of the Rule

OFCO No. 034-22 announced the reorganization of Sector Columbia River and disestablishment of Sector North Bend and this rule reflects that organizational change in part 3 of Title 33 of the Code of Federal Regulations. OFCO No. 034-22 did not change Sector Columbia River's Area of Responsibility (AOR) but it relocated its office location. Part 3 of 33 CFR describes the location of U.S. Coast Guard districts, sectors, and Captain of the Port (COTP) and Officer in Charge of Marine Inspections (OCMI) zones. This rule amends § 3.65-15 to update the location of Sector Columbia River's office to Portland, OR.

This rule also removes § 3.65-20 because it is no longer necessary after the disestablishment of Sector North Bend. Sector North Bend's SAR Mission Coordinator authority specified in § 3.65-20 need not be addressed in § 3.65-15. Sector Columbia River encompasses the AOR of Sector North Bend and, in conformity with other sector regulations in 33 CFR part 3, SAR Mission Coordinator authority need not be specified in § 3.65-15.

Accordingly, this rule does not change Sector Columbia River's sector, OCMI, or COTP zone boundary lines, nor does it substantively impact existing regulated navigation area, safety zone, or security zone regulation, or any naval vessel protection zones. This rule does, however, revise § 3.01-1 to reflect that after the disestablishment of Sector North Bend, only one sector remains with specified SAR Mission Coordinator authority.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, this rule has not been reviewed by the Office of Management and Budget (OMB).

This regulatory action determination is based on the finding that the disestablishment of Sector North Bend and reorganization will have no substantive effect on the public.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

For the reasons stated in section V.A above, this rule will not have a significant economic impact on any member of the public, including “small entities.”

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule consists only of an organizational amendment. It is categorically excluded from further review under paragraph L3 of Appendix A, Table 1 of DHS Instruction Manual 023-01-001-01, Rev. 1, Implementation of the National Environmental Policy Act.

List of Subjects in 33 CFR Part 3

Organizations and functions (Government agencies).

For the reasons discussed in the preamble, the Coast Guard amends 33 CFR part 3 as follows:

PART 3—COAST GUARD AREAS, DISTRICTS, SECTORS, MARINE INSPECTION ZONES, AND CAPTAIN OF THE PORT ZONES

1. The authority citation for part 3 continues to read as follows:

Authority: 14 U.S.C. 501, 504; Pub. L. 107-296, 116 Stat. 2135; Department of Homeland Security Delegation No. 00170.1, Revision No. 01.2.

§ 3.01-1 [Amended]

2. In § 3.01-1(d)(3) remove the words “Some specified sectors exercise” and add, in their place, the words “A specified sector exercises”.

3. Revise § 3.65-15 to read as follows:

§ 3.65-15 Sector Columbia River Marine Inspection Zone and Captain of the Port Zone.

Sector Columbia River's office is located in Portland, OR. The boundaries of Sector Columbia River's Marine Inspection and Captain of the Port Zones start at the Washington coast at latitude 47°32′00″ N, longitude 124°21′15″ W, proceeding along this latitude east to latitude 47°32′00″ N, longitude 123°18′00″ W; thence south to latitude 46°55′00″ N, longitude 123°18′00″ W; thence east along this latitude to the eastern Idaho state line; thence southeast along the Idaho state line to the intersection of the Idaho-Wyoming boundary; thence south along the Idaho-Wyoming boundary to the intersection of the Idaho-Utah-Wyoming boundaries; thence west along the southern border of Idaho to Oregon and then west along the southern border of Oregon to the coast at latitude 41°59′54″ N, longitude 124°12′42″ W; thence west along the southern boundary of the Thirteenth Coast Guard District, which is described in § 3.65-10, to the outermost extent of the EEZ at latitude 41°38′35″ N, 128°51′26″ W; thence north along the outermost extent of the EEZ to latitude 47°32′00″ N; thence east to the point of origin.

§ 3.65-20 [Removed]

4. Remove § 3.65-20.

Dated: May 9, 2023.
Michael T. Cunningham,
Chief, Office of Regulations and Administrative Law.

[FR Doc. 2023-10195 Filed 5-12-23; 8:45 am]

BILLING CODE 9110-04-P